ENVIRONMENTAL PROTECTION AGENCY

[FRL-7664-4]

Notice of Proposed Purchaser Agreement Pursuant to the Comprehensive Environmental Response, Compensation and Liability Act of 1980, as Amended

AGENCY: Environmental Protection Agency (EPA).

ACTION: Notice; request for public comment.

SUMMARY: In accordance with the Comprehensive Environmental Response, Compensation, and Liability Act of 1980, as amended by the Superfund Amendments and Reauthorization Act of 1986, (“CERCLA”), 42 U.S.C. 9601-9675, notice is hereby given that a proposed prospective purchaser agreement (“Purchaser Agreement”) associated with the Whitmoyer Laboratories Superfund Site, Myerstown, Lebanon County, Pennsylvania was executed by the Environmental Protection Agency and the Department of Justice and is now subject to public comment, after which the United States may modify or withdraw its consent if comments received disclose facts or considerations which indicate that the Purchaser Agreement is inappropriate, improper, or inadequate. The Purchaser Agreement would resolve certain potential EPA claims under sections 106 and 107 of CERCLA, 42 U.S.C. 9606, 9607, against the Jackson Township and Jackson Township Recreational Authority (collectively, the “Purchaser”). The settlement would require the Purchaser to, among other things, use the Property as a recreational green space in accordance with use restrictions to preserve the protective site features and the monitoring, routine maintenance and reporting requirements set forth in the Purchaser Agreement.

For thirty (30) days following the date of publication of this notice, the Agency will receive written comments relating to the Purchaser Agreement. The Agency's response to any comments received will be available for public inspection at the U.S. Environmental Protection Agency, Region III, 1650 Arch Street, Philadelphia, PA 19103.

DATES: Comments must be submitted on or before June 18, 2004.

ADDRESSES: The Purchaser Agreement and additional background information relating to the Purchaser Agreement are available for public inspection at the U.S. Environmental Protection Agency, Region III, 1650 Arch Street, Philadelphia, PA 19103. A copy of the Purchaser Agreement may be obtained from Patricia C. Miller (3RC41), Senior Assistant Regional Counsel, U.S. Environmental Protection Agency, 1650 Arch Street, Philadelphia, PA 19103. Comments should reference the “Whitmoyer Laboratories Superfund Site, Prospective Purchaser Agreement” and “EPA Docket No. CERC-03-2004-0003 PP” and should be forwarded to Patricia C. Miller at the above address.

FOR FURTHER INFORMATION CONTACT: Patricia C. Miller (3RC41), Senior Assistant Regional Counsel, U.S. Environmental Protection Agency, 1650 Arch Street, Philadelphia, PA 19103, Phone: (215) 814-2662.

Dated: May 10, 2004.
Donald S. Welsh,
Regional Administrator, Region III.

[FR Doc. 04-11342 Filed 5-18-04; 8:45 am]

BILLING CODE 6560-50-P